DEPARTMENT OF JUSTICE

Antitrust Division

Notice Pursuant to the National Cooperative Research and Production Act of 1993—The SNP Consortium Ltd.

Notice is hereby given that, on January 31, 2000 and April 14, 2000, pursuant to Section 6(a) of the National Cooperative Research and Production Act of 1993, 15 U.S.C. § 4301 et seq. (“the Act”), The SNP Consortium (“TSC”) filed written notifications simultaneously with the Attorney General and the Federal Trade Commission disclosing changes in its membership status. The notifications were filed for the purpose of extending the Act's provisions limiting the recovery of antitrust plaintiffs to actual damages under specified circumstances.

Specifically, International Business Machines Corporation, Armonk, NY; Motorola, Inc., Schaumburg, IL; and Amersham Pharmacia Biotech Inc., Piscataway, NJ have been added as parties to this venture. In addition, Hoechst Marion Roussel, Inc., Bridgewater, NJ, has been recognized and is now named Aventis Pharmaceuticals Inc.

No other changes have been made in either the membership or planned activity of the group research project. Membership in this group research project remains open, and TSC intends to file additional written notification disclosing all changes in membership.

On April 20, 1999, TSC filed its original notification pursuant to Section 6(a) of the Act. The Department of Justice published a notice in the Federal Register pursuant to Section 6(b) of the Act on October 7, 1999 (64 FR 54645).

Constance K. Robinson,
Director of Operations, Antitrust Division.

[FR Doc. 01-13038 Filed 4-22-01; 8:45 am]

BILLING CODE 4410-11-M